ENVIRONMENTAL PROTECTION AGENCY

[OPP-2002-0027; FRL-6834-6]

ABT Associates, Inc. and Syracuse Research Corp. (SRC); Transfer of Data

AGENCY: Environmental Protection Agency (EPA).

ACTION: Notice.

SUMMARY: This notice announces that pesticide-related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to ABT Associates, Inc. and its subcontractor, Syracuse Research Corp., in accordance with 40 CFR 2.307(h)(3) and 2.308(i)(2). ABT Associates, Inc. and its subcontractor, Syracuse Research Corp., have been awarded a contract to perform work for OPP, and access to this information will enable ABT Associates, Inc. and its subcontractor, Syracuse Research Corp., to fulfill the obligations of the contract.

DATES: ABT Associates, Inc. and its subcontractor, Syracuse Research Corp., will be given access to this information on or before April 29, 2002.

FOR FURTHER INFORMATION CONTACT: By mail: Erik Johnson, FIFRA Security Officer, Information Resources and Services Division (7502C), Office of Pesticide Programs, Environmental Protection Agency, 1200 Pennsylvania Ave., NW., Washington, DC 20460; telephone number: (703) 305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov. To access this document, on the home page select “Laws and Regulations,” “Regulations and Proposed Rules,” and then look up the entry for this document under the “Federal Register—Environmental Documents.” You can also go directly to the Federal Register listings at http://www.epa.gov/fedrgstr/.

II. Contractor Requirements

Under Contract No. 68-W0-1039, ABT Associates, Inc. and its subcontractor, Syracuse Research Corp., will perform the following: In response to the Food Quality Protection Act (FQPA), the Office of Science Coordination and Policy (OSCP) and the Office of Pesticide Programs (OPP) are conducting a pilot project to evaluate existing toxicity data and data bases in the Agency and the scientific literature for a sample group of approximately 30 pesticide active ingredients. Toxicity and endocrine-related mechanistic data shall be examined in detail to determine their adequacy to assess each chemical's potential to affect the endocrine system.

For this work assignment, the contractor shall examine Agency toxicity data files, (primarily located in OPP's Environmental Fate and Effects Division data bases), summary documents, electronic files, and the scientific literature for indications of endocrine system interaction, perturbation, or modulation in wildlife and aquatic organisms for up to 30 pesticide active ingredients.

OPP has determined that access by ABT Associates, Inc. and its subcontractor, Syracuse Research Corp., to information on all pesticide chemicals is necessary, for the performance of this contract.

Some of this information may be entitled to confidential treatment. The information has been submitted to EPA under sections 3, 4, 6, and 7 of FIFRA and under sections 408 and 409 of FFDCA.

In accordance with the requirements of 40 CFR 2.307(h)(2), the contract with ABT Associates, Inc. and its subcontractor, Syracuse Research Corp., prohibits the use of information for any purpose not specified in the contract; prohibits disclosure of the information to a third party without prior written approval from the agency; and requires that each official and employee of the contractor sign an agreement to protect the information from unauthorized release and to handle it in accordance with the FIFRA Information Security Manual. In addition, ABT Associates, Inc. and its subcontractor, Syracuse Research Corp., are required to submit for EPA approval a security plan under which any CBI will be secured and protected against unauthorized release or compromise. No information will be provided to ABT Associates, Inc. and its subcontractor, Syracuse Research Corp., until the requirements in this document have been fully satisfied. Records of information provided to ABT Associates, Inc. and its subcontractor, Syracuse Research Corp., will be maintained by EPA Project Officers for this contract. All information supplied to ABT Associates, Inc. and its subcontractor, Syracuse Research Corp., by EPA for use in connection with this contract will be returned to EPA when ABT Associates, Inc. and its subcontractor, Syracuse Research Corp., have completed their work.

List of Subjects

Environmental protection, Business and industry, Government contracts, Government property, Security measures.

Dated: April 10, 2002.
Linda Vlier Moos,
Acting Director, Information Resources and Services Division, Office of Pesticide Programs.

[FR Doc. 02-9792 Filed 4-23-02; 8:45 am]

BILLING CODE 6560-50-S